INTERNATIONAL TRADE COMMISSION

Sunshine Act Meeting

Agency Holding the Meeting: International Trade Commission.

Time and Date: July 15, 2003 at 11 a.m.

Place: Room 101, 500 E Street SW., Washington, DC 20436, Telephone: (202) 205-2000.

Status: Open to the public.

Matters to be Considered:

1. Agenda for future meetings: none.

2. Minutes

3. Ratification List.

4. Inv. No. 731-TA-752 (Review) (Crawfish Tail Meat from China)—briefing and vote. (The Commission is currently scheduled to transmit its determination and Commissioners' opinions to the Secretary of Commerce on or before July 28, 2003.)

5. Outstanding action jackets: none.

In accordance with Commission policy, subject matter listed above, not disposed of at the scheduled meeting, may be carried over to the agenda of the following meeting.

By order of the Commission.

Issued: July 2, 2003.
Marilyn R. Abbott,
Secretary to the Commission.

[FR Doc. 03-17247 Filed 7-2-03; 3:42 pm]

BILLING CODE 7020-02-U